DEPARTMENT OF THE INTERIOR

Bureau of Indian Affairs

Notice of Intent To Prepare an Environmental Impact Statement for Proposed Strategies for Lake Trout Population Reductions To Benefit Native Fish Species, Flathead Lake, MT

AGENCY: Bureau of Indian Affairs, Interior.

ACTION: Notice

SUMMARY: This notice advises the public that the Bureau of Indian Affairs (BIA) as lead Agency, with the Confederated Salish and Kootenai Tribes (CSKT) of the Flathead Reservation as a Cooperating Agency, will be gathering information needed for an Environmental Impact Statement (EIS) for proposed fisheries management in Flathead Lake, Montana.

DATES: Written comments on the scope and implementation of this proposal should arrive by July 5, 2012.

ADDRESSES: You may mail, hand carry, or fax written comments to either Tom McDonald, Division Manager, Division of Fish, Wildlife, Recreation, and Conservation, Confederated Salish and Kootenai Tribes, Natural Resources Department, P.O. Box 278, Pablo, Montana, 59855, fax (406) 883-2848; or Rose Leach, NEPA Program Manager, Confederated Salish and Kootenai Tribes, same mailing address as above, fax (406) 676-2605.

FOR FURTHER INFORMATION CONTACT: Tom McDonald, (406) 675-2700, extension 7288; email: tomm@cskt.org or Rose Leach, (406) 675-2700, extension 6204; email: rosel@cskt.org.

SUPPLEMENTARY INFORMATION: The EIS will assess the environmental consequences of BIA approval of a proposal to reduce non-native lake trout abundance in Flathead Lake to benefit native fish populations in Flathead Basin. Direction to manage non-native fish populations to improve conditions for native fish species comes from the Flathead Lake and River Fisheries Co-Management Plan (2000), Bull Trout Restoration Plan (2000), Cutthroat Memorandum of Understanding and Conservation Agreement (2007), and Flathead Subbasin Plan: Part III, Flathead River Subbasin Management Plan (2004).

Stakeholders from the Flathead Basin have been gathered into an interdisciplinary team that includes Confederated Salish and Kootenai Tribes, Montana Department of Fish, Wildlife and Parks, US Fish and Wildlife Service, National Park Service, US Forest Service, US Geological Survey, local fishing guides and anglers, Trout Unlimited, University of Montana, and Montana Department of Natural Resources and Conservation. The team has met since 2010, to draft issues and develop alternatives.

The range of alternatives considered thus far includes (1) no action (maintain the status quo of lake trout harvest from general harvest and fishing contests); (2) reduce lake trout numbers to 25% of 2010 population levels; (3) reduce lake trout numbers to 50% of 2010 population levels; and (4) reduce lake trout numbers to 90% of 2010 population levels.

Proposed alternatives with percent reductions (action alternatives) will use general harvest, fishing contests, and targeted gill and trap netting to achieve proposed lake trout reduction targets. The proposed action alternatives will be implemented indefinitely into the future, to both achieve and maintain lake trout population reductions and will include implementation and effectiveness monitoring at 5-year intervals, so that harvest strategies can be adapted to future conditions.

Proposed action alternatives will minimize by-catch mortality of non-target fish species, based on decades of work in Flathead Lake and references from other systems.

Suggested annual lake trout harvest levels have been derived from an age-structured stochastic simulation model based on decades of local population data. Annual harvest levels for this proposed project were designed to be implemented indefinitely into the future, to first achieve and then maintain reductions in the overall lake trout population as follows: 113,000 annual lake trout harvest for 25% reduction, 143,000 annual lake trout harvest for 50% reduction, and 188,000 annual lake trout harvest for 90% reduction.

Issues to be covered during the scoping process may include, but not be limited to: Biological resources (lake trout, bull trout, westslope cutthroat trout, lake whitefish, pygmy whitefish, yellow perch, and invertebrates including Mysis shrimp), recreation, fishing, cultural resources, socioeconomic conditions, grizzly bears, aquatic birds, environmental justice and Indian trust resources.

Public Comment Availability

Comments, including names and addresses of respondents, will be available for public review at the BIA address shown in the ADDRESSES section of this notice, during regular business hours, Monday through Friday, except holidays. Before including your address, phone number, email address, or other personal identifying information in your comment, you should be aware that your entire comment—including your personal identifying information—may be made publicly available at any time. While you can ask us in your comment to withhold your personal identifying information from public review, we cannot guarantee that we will be able to do so.

Authority

This notice is published in accordance with sections 1503.1 of the Council on Environmental Quality Regulations (40 CFR parts 1500 through 1508) and Sec. 46.305 of the Department of Interior Regulations (43 CFR Part 46), implementing the procedural requirements of NEPA, as amended (42 U.S.C. 4321 et seq.), and is in the exercise of authority delegated to the Assistant Secretary—Indian Affairs, by part 209 of the Departmental Manual.

Dated: May 23, 2012.
Donald E. Laverdure,
Acting Assistant Secretary—Indian Affairs.

[FR Doc. 2012-13557 Filed 6-4-12; 8:45 am]

BILLING CODE 4310-W7-P